DEPARTMENT OF JUSTICE

[1105-NEW]

Agency Information Collection Activities; Proposed eCollection eComments Requested; New Collection

AGENCY: Security and Emergency Planning Staff, Justice Management Division, Department of Justice.

ACTION: 30-Day notice.

SUMMARY: The Department of Justice, Justice Management Division, Security and Emergency Planning Staff (SEPS), will be submitting the following information collection request to the Office of Management and Budget (OMB) for review and approval in accordance with the Paperwork Reduction Act of 1995.

DATES: Comments are encouraged and will be accepted for 30 days until November 26, 2018.

FOR FURTHER INFORMATION CONTACT: If you have additional comments especially on the estimated public burden or associated response time, suggestions, or need a copy of the proposed information collection instrument with instructions or additional information, please contact Dorianna Rice, Security and Emergency Planning Staff, 145 N Street NE, Suite 2W.507, Washington, DC 20530. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Security and Emergency Planning Staff, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New collection.

2. The Title of the Form/Collection: Department Personnel Security Reporting Requirements, iReport Forms and PDF Fillable Forms:

a. Self-Reporting of Arrests

b. Self-Reporting of Allegations of Misconduct

c. Self-Reporting of Personal Foreign Travel

d. Self-Reporting of Contact with Foreign Nationals

e. Self-Reporting of Possession/Application for Foreign Passport or Identity Card

f. Self-Reporting on Other Foreign Matters

g. Self-Reporting of Roommate/Cohabitant/Marriage

h. Self-Reporting of Alcohol or Drug Related Addiction or Treatment

i. Self-Reporting of Attempted Elicitation, Exploitation, Blackmail, Coercion or Enticement to Obtain Information

j. Self-Reporting of Financial Issues/Delinquencies

k. Self-Reporting of Unofficial Contact with the Media

l. Reportable Activities of Other Covered Personnel

3. The agency form number, if any, and the applicable component of the Department sponsoring the collection: iReport and Fillable PDF Forms for each item in No. 2 above.

4. Affected public who will be asked or required to respond, as well as a brief abstract:

Primary: Individuals.

Individuals who are contractors for the Department of Justice or who are processed for access to classified information by the Department of Justice.

Abstract: Self-reporting requirements set forth in the Department of Justice (DOJ) Policy Statement 1700.04, Department Personnel Security Reporting Requirements, issued April 18, 2018, apply to non-federal employee personnel affiliated with the DOJ. The policy contains reporting requirements that are applicable to the entire DOJ workforce as well as reporting requirements that apply only to personnel occupying a national security position or who have access to classified information. The requirements relating to national security are mandated by the Director of National Intelligence as the Security Executive Agent. The majority of the reports relate to the submitter's personal conduct and activities. There is one form for personnel to submit information on other personnel, consistent with government-wide reporting requirements. This collection request seeks approval for contractors and other non-federal employees who are processed for access to classified information to utilize the Department's automated reporting system called iReport, or, for the small population with no access to the IT system, to utilize PDF fillable forms to report the required information. The Security and Emergency Planning Staff, and other Department Security Offices, will use the reported information to determine the submitter's continued fitness for employment at the Department of Justice or continued eligibility for access to national security information. The Department security offices for each agency component will review, evaluate, and adjudicate the information received.

5. An estimate of the total number of respondents and the amount of time estimated for an average respondent to respond:

a. Department-wide population covered by the requirement to self-report information in the forms listed in Sections 2a and 2b is estimated at 35,000. It is estimated that only three percent (1,050) will actually need to self-report.

b. Department-wide population covered by the requirement to report information in the forms listed in Sections 2c through 2l is estimated to less than 500.

c. Amount of time estimated for an average reported is less than ten minutes.

6. An estimate of the total public burden (in hours) associated with the collection: 260 annual burden hours.

If additional information is required contact: Melody D. Braswell, Department Clearance Officer, United States Department of Justice, Justice Management Division, Policy and Planning Staff, Two Constitution Square, 145 N Street NE, 3E.405A, Washington, DC 20530.

Dated: October 23, 2018.
Melody D. Braswell,
Department Clearance Officer for PRA, U.S. Department of Justice.

[FR Doc. 2018-23424 Filed 10-25-18; 8:45 am]

BILLING CODE 4410-BA-P